POSTAL SERVICE

39 CFR Part 111

Metal Strapping Materials on Pallets

AGENCY: Postal Service.

ACTION: Final rule.

SUMMARY: This final rule revises the standards for securing pallets of mail, whether an individual pallet of mail, a pallet composed of several individual pallets stacked to form a single unit, or a pallet with a pallet box containing mail, by excluding the use of metal strapping or metal banding material. These revisions will also exclude metal buckles, seals, or other devices used to secure the ends of nonmetal strapping material used on pallets of mail. These revisions will not change current approved methods or other materials for securing the mail to pallets.

EFFECTIVE DATE: May 31, 2003.

FOR FURTHER INFORMATION CONTACT: O.B. Akinwole, (703) 292-3643.

SUPPLEMENTARY INFORMATION: On July 24, 2002, the Postal Service published for public comment in the Federal Register a proposed rule (FR 67 48425-48426) that excluded the use of metal strapping or metal banding material to secure pallets of mail, whether an individual pallet of mail, a pallet composed of several individual pallets stacked to form a single unit, or a pallet with a pallet box containing mail. The Postal Service also invited comments on the proposed rule from interested parties and accepted comments until August 23, 2002. This final rule contains the DMM standards adopted by the Postal Service after review of the comment that was submitted.

Evaluation of Comments Received

The Postal Service received one piece of correspondence offering comments on the July 24 proposed rule. The respondent is a large business mailer.

Based on additional costs expected to be incurred, due to stock on hand, the mailer proposed a December 31, 2003, implementation date.

Metal straps, bands, buckles, or seals used to secure the ends of other nonmetal strapping material, can create serious safety hazards to personnel and equipment preparing, processing and distributing the mail. In addition, the accumulation and disposal of metal strapping materials can create additional hazardous situations and environmental concerns. It should be noted that current Postal Service standards for packaging mail prohibit the use of metal or wire for securing mail into packages, and the standards for traying mail specify the use of plastic straps for securing tray sleeves and lids.

The Postal Service is committed to integrating safety into all postal operations, not only for its employees but also for its customers. Serious injuries, such as deep cuts, can occur when metal bands are applied, often when removed. In addition, the Postal Service is committed to conservation initiatives and supports environmentally sound practices. In keeping with these two commitments, the Postal Service believes that eliminating the use of metal straps or on palletized mail will improve employee and customer safety and promote better resource conservation.

The Domestic Mail Manual is revised as follows. These changes are incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

Domestic Mail Manual (DMM)

* * * * *

M Mail Preparation and Sortation

M000 General Preparation Standards

* * * * *

M040 Pallets

M041 General Standards

* * * * *

1.0 PHYSICAL CHARACTERISTICS

* * * * *

1.3 Securing Pallets

[Revise 1.3 to read as follows:]

Except for stacked pallets under 3.1 and pallet boxes under 4.3, each loaded pallet of mail must be prepared to maintain the integrity of the mail and the entire pallet load during transport and handling using one of the following methods:

a. Securing with at least two straps or bands of appropriate material. Wire or metal bands, straps, buckles, seals, and similar metal fastening devices may not be used.

b. Wrapping with stretchable or shrinkable plastic.

c. Securing with at least two straps or bands of appropriate material and wrapping with stretchable or shrinkable plastic. Wire and metal bands and straps, metal buckles, metal seals, and similar metal fastening devices may not be used.

* * * * *

3.0 STACKING PALLETS

[Revise the heading of 3.1 and the text of item d to read as follows:]

3.1 Physical Characteristics

* * * * *

d. The stack of pallets is secured with at least two straps or bands of appropriate material to maintain the integrity of the stacked pallets during transport and handling. Wire or metal bands, straps, buckles, seals, and similar metal fastening devices may not be used. The stack of pallets may not be secured together with stretchable or shrinkable plastic.

* * * * *

4.0 PALLET BOXES

* * * * *

4.3 Securing

[Revise 4.3 to read as follows:]

Pallet boxes must be secured to the pallet with strapping, banding, stretchable, plastic, shrinkwrap, other material (Wire or metal bands, straps, buckles, seals, and similar metal fastening devices may not be used) that ensures that the pallet can be safely unloaded from vehicles, transported, and processed as a single unit to the point where the contents are distributed with the load intact if: * * *

* * * * *

An appropriate amendment to 39 CFR 111 will be published to reflect the changes.

Stanley F. Mires,
Chief Counsel, Legislative.

[FR Doc. 02-27499 Filed 10-29-02; 8:45 am]

BILLING CODE 7710-12-P